DEPARTMENT OF HOMELAND SECURITY

Transportation Security Administration

New Agency Information Collection Activity Under OMB Review: Security Appointment Center (SAC) Visitor Request Form and Foreign National Vetting Request

AGENCY: Transportation Security Administration, DHS.

ACTION: 30-Day notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on December 21, 2016, 81 FR 93694. The collection involves gathering information from individuals who plan to visit any of the TSA facilities in the National Capital Region.¹

¹ TSA facilities in the National Capital Region include TSA Headquarters, the Freedom Center, the Transportation Security Integration Facility (TSIF), the Metro Park office complex (Metro Park), and the Annapolis Junction facility (AJ).

DATES: Send your comments by August 23, 2017. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Security Appointment Center (SAC) Visitor Request Form and Foreign National Vetting Request.

Type of Request: New collection.

OMB Control Number: 1652-XXXX.

Form(s): TSA Form 2802.

Affected Public: Visitors to TSA facilities in the National Capital Region.

Abstract: The Secretary of the Department of Homeland Security (DHS) is authorized to protect property owned, occupied, or secured by the Federal Government. See 40 U.S.C. 1315. See also 41 CFR 102-81.15 (requires Federal agencies to be responsible for maintaining security at their own or leased facilities). DHS Instruction Manual 121-01-011-01 (Visitor Management for DHS Headquarters and DHS Component Headquarters Facilities (April 19, 2014)) requires all DHS components to vet visitors using the National Crime Information Center (NCIC) system before allowing them access to agency facilities. The Security Appointment Center (SAC) Visitor Request Form and Foreign National Vetting Request process manages risks posed by individuals entering the building who have not been subject to a criminal history records check. TSA will use the collected information (social security number, date of birth and, if a foreign visitor, passport information) to vet visitors via the NCIC system.

Number of Respondents: 24,702.

Estimated Annual Burden Hours: An estimated 412 hours annually.

Dated: July 19, 2017.
Christina A. Walsh,
TSA Paperwork Reduction Act Officer, Office of Information Technology.

[FR Doc. 2017-15490 Filed 7-21-17; 8:45 am]

BILLING CODE 9110-05-P